ENVIRONMENTAL PROTECTION AGENCY

[EPA-New England Region I—EPA-R01-OW-2008-0919; FRL-8760-1]

Maine Marine Sanitation Device Standard—Receipt of Petition

AGENCY: Environmental Protection Agency (EPA).

ACTION: Notice—Receipt of petition.

SUMMARY: Notice is hereby given that a petition has been received from the state of Maine requesting a determination by the Regional Administrator, U.S. Environmental Protection Agency, that adequate facilities for the safe and sanitary removal and treatment of sewage from all vessels are reasonably available for the waters of Boothbay Harbor.

DATES: Comments must be submitted by February 4, 2009.

ADDRESSES: Submit your comments, identified by Docket ID No. EPA-R01-OW-2008-0919, by one of the following methods: www.regulations.gov, follow the on-line instructions for submitting comments.

• E-mail: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0919. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy righted material, will be publicly available only in hard copy. Publicly available docket materials are available either electronically in www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the state of Maine requesting a determination by the Regional Administrator, U.S. Environmental Protection Agency, pursuant to Section 312(f)(3) of Public Law 92-500 as amended by Public Law 95-217 and Public Law 100-4, that adequate facilities for the safe and sanitary removal and treatment of sewage from all vessels are reasonably available for the Boothbay Harbor area.

The proposed No Discharge Area for BOOTHBAY HARBOR:

Waterbody/general area | Latitude | Longitude
From the USCG navigational buoy green bell “1C” off the light station “The Cuckholds” north to “Cape Newagen” | 43° 47′ 8.75″ N | 69° 39′ 38.57″ W
North to “Cameron Point” on the northwest end of “Townsend Gut” | 43° 51′ 4.21″ N | 69° 40′ 5.32″ W
North to the southern tip of “Indiantown Island” | 43° 51′ 19.4″ N | 69° 40′ 4.75″ W
North to the northern end of “Indiantown Island” | 43° 51′ 57.73″ N | 69° 40′ 36.1″ W
East to the head of navigation of unnamed stream | 43° 15′ 17.33″ N | 69° 38′ 9.31″ W
East to the head of navigation of unnamed stream | 43° 51′ 8.04″ N | 69° 37′ 24.62″ W
East to the head of navigation of unnamed stream | 43° 51′ 4.99″ N | 69° 36′ 50.93″ W
East to the northern end of “Linekin Bay” | 43° 51′ 42.94″ N | 69° 35′ 26.86″ W
South to the western point of “Ocean Point” | 43° 48′ 50.14″ N | 69° 36′ 16.39″ W
Southwest in a straight line to USCG navigational buoy green bell “1C” off the light station “The Cuckholds” | 43° 46′ 22.55″ N | 69° 39′ 0.09″ W
The proposed NDA includes the municipal waters of Boothbay Harbor.

There are marinas, yacht clubs and public landings/piers in the proposed area with a combination of mooring fields and dock space for the recreational and commercial vessels. Maine has certified that there are six pumpout facilities within the proposed area available to the boating public and all facilities are connected to the sewage system. A list of the facilities, phone numbers, locations, and hours of operation is provided at the end of this petition.

Maine has provided documentation indicating that the total vessel population is estimated to be 893 in the proposed area. It is estimated that 458 of the total vessel population may have a Marine Sanitation Device (MSD) of some type.

The proposed area is identified as a High Value Wildlife Habitat by the U.S. Fish and Wildlife Service. The intertidal zone includes a diverse array of habitats that are predominately rocky shore but does include isolated areas of salt marsh and mud flats. There are 252 acres of identified shellfish habitat. There are five marinas and this area is one of the more popular tourist locations in the state. This area is a popular destination for boaters due to its natural environmental diversity and would benefit from a No Discharge Area.

Pumpout Facilities Within Proposed No Discharge Area
Boothbay Harbor: Name | Boothbay Harbor: Location | Boothbay Harbor: Contact info. | Boothbay Harbor: Hours | Boothbay Harbor: Mean low water depth
Harbormaster | Boothbay Harbor | 207-633-3671 VHF 16 | 6am-8pm | N/A
Carousel Marina | Boothbay Harbor | 207-633-2922 VHF 9 | 8am-5pm, 7days | 10 ft
Brown's Wharf | Boothbay Harbor | 207-633-5440 VHF 9 | 8am-5pm, 7 days | 15 ft
Cap'n Fish's Marina | Boothbay Harbor | 207-633-3244 VHF 9 | 8am-5pm, 7 days | 15 ft
Tugboat Inn and Marina | Boothbay Harbor | 207-633-4434 VHF 9 | 10am-2pm, 7 days | 8 ft
Signal Point Marina | Boothbay Harbor | 207-633-6920 | 24/7 Self Service | 8 ft

Dated: December 19, 2008.
Robert W. Varney,
Regional Administrator, New England Region.

[FR Doc. E8-31297 Filed 1-2-09; 8:45 am]

BILLING CODE 6560-50-P